DEPARTMENT OF LABOR

Office of the Secretary

Submission for OMB Review; Comment Request

March 25, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 219-8904 or Email Howze-Marlene@dol.gov.

Comments should be sent to the Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Miner's Claim for Benefits Under the Black Lung Benefits Act; (2) Employment History; (3) Miner Reimbursement Form.

OMB Number: 1215-0052.

Affected Public: Individuals or households; Business or other for-profit.

Frequency: On Occasion.

Total Respondents/Responses: 20,200.

Total Burden Hours: 9,116.

Form | Respondents/responses | Estimated time per response (min) | Burden hours
CM-911 | 4,800 | 45 | 3,600
CM-911a | 5,900 | 40 | 3,933
CM-915 | 9,500 | 10 | 1,583

Total Annualized Capital/Startup Costs: $0.

Total Annual Costs (operating/maintaining systems or purchasing services): $4,060.75.

Description: The Black Lung Benefits Act of 1977, as amended, 30 U.S.C. 901 et. seq., provides for the payment of benefits to coal miners who are totally disabled by black lung disease, and to certain survivors. The CM-911 is the application for benefits. The CM-911a, which is completed along with the CM-911, renders a complete history of employment and is used to establish employment criteria for benefit eligibility. CM-915 is the standard data collection form used by miner payees when requesting reimbursement for black lung related medical services. If the information were not collected, the requirement of the Act would not be met and the potential for making improper reimbursements to the miner payees would increase and, in some cases, delay program reimbursements on medical treatment claims.

Type of Review: Extension of a currently approved collection.

Agency: Employment Standards Administration (ESA).

Title: Pre-Hearing Statement.

OMB Number: 1215-0085.

Affected Public: Individuals or households; Business or other for-profit.

Frequency: On Occasion.

Number of Respondents: 6,800.

Number of Annual Responses: 6,800.

Estimated Time Per Response: 10 minutes.

Total Burden Hours: 1,088.

Total Annualized Capital/Startup Costs: $0.

Total Annual Costs (operating/maintaining systems or purchasing services): $2,595.50.

Description: Title 20, CFR 702.317 provides for the referral of claims under the Longshore and Harbor Workers' Compensation Act. This Act provides benefits to workers' injured in maritime employment on the navigable waters of the United States or in an adjoining area customarily used by an employer in loading, unloading, repairing, or building a vessel. The LS-18 is used to refer cases to the Office of Administrative Law Judges for formal hearings under the Act. The information obtained is used to establish and clarify the issues involved and to prepare cases for formal hearings. If the information were not collected, there would not be a uniform method of referring cases for formal hearings or a means to determine the issues involved for resolution.

Type of Review: Extension of a currently approved collection.

Agency: Employment Standards Administration (ESA).

Title: Overpayment Recovery Questionnaire.

OMB Number: 1215-0144.

Affected Public: Individuals or households.

Frequency: On occasion.

Number of Respondents: 4,500.

Number of Annual Responses: 4,500.

Estimated Time Per Response: 1 hour.

Total Burden Hours: 4,500.

Total Annualized Capital/Startup Costs: $0.

Total Annual Costs (operating/maintaining systems or purchasing services): $1,665.00.

Description: The Federal Coal Mine Health and Safety Act of 1969, as amended, 30 U.S.C. 923(b) and 20 CFR 725.544(c) authorize the Black Lung program to collect information to determine whether or not the recovery of any Black Lung or Federal Employees' Compensation (FECA) overpayment may be waived compromised, terminated, or collected in full. The OWCP-20 collects information to ascertain the financial profile of beneficiaries who have been overpaid benefits, and their ability to repay. If the information were not collected, Black Lung and FECA would have little basis to decide on collection proceedings.

Type of Review: Extension of a currently approved collection.

Agency: Employment Standards Administration (ESA).

Title: Claim for Continuance of Compensation.

OMB Number: 1215-0154.

Affected Public: Individuals or households.

Frequency: Annually.

Number of Respondents: 5,900.

Number of Annual Responses: 5,900.

Estimated Time Per Response: 5 minutes.

Total Burden Hours: 492.

Total Annualized Capital/Startup Costs: $0.

Total Annual Costs (operating/maintaining systems or purchasing services): $2,006.00.

Description: The Office of Workers' Compensation Programs (OWCP) administers the Federal Employees' Compensation Act, 5 U.S.C. 8133. Under the Act, eligible dependents of deceased employees receive compensation benefits on account of the employee's death. The CA-12 is used to obtain information on marital status of beneficiaries in death cases, in order to determine continued entitlement to benefits under the provisions of the Federal ‘Employees’ Compensation Act. If the information were not collected the OWCP could not ensure that death benefits being paid are correct and that payments are not made to ineligible survivors.

Ira L. Mills,
Departmental Clearance Officer.

[FR Doc. 02-8264 Filed 4-4-02; 8:45 am]

BILLING CODE 4510-CK-M